ADMINISTRATIVE CONFERENCE OF THE UNITED STATES

Notice of Public Meetings of Committees of the Administrative Conference of the United States

AGENCY: Administrative Conference of the United States.

ACTION: Notice of public meetings.

SUMMARY: Notice is hereby given of two public meetings of the Committee on Collaborative Governance, and the rescheduling of a meeting of the Committee on Adjudication, of the Assembly of the Administrative Conference of the United States. At these meetings, the committees will consider draft reports and recommendations as noted below. Complete details regarding the committee meetings, the nature of the projects, how to attend (including information about remote access and obtaining special accommodations for persons with disabilities), and how to submit comments to each committee can be found on the Conference's Web site, at http://www.acus.gov. Click on “Research,” then on “Committee Meetings.”

Comments may be submitted by email to Comments@acus.gov, with the name of the appropriate committee in the subject line, or by postal mail to the appropriate committee at the address given below.

DATES: Committee on Collaborative Governance: Tuesday, March 27, 2012, from 9 a.m. to 11:30 a.m. and Tuesday, May 8, 2012, from 1:30 p.m. to 4 p.m.

Committee on Adjudication: Monday, April 23, 2012, from 9:30 a.m. to 12:30 p.m. Please note that this meeting reschedules the Committee on Adjudication's meeting previously scheduled for Monday, April 16, 2012, from 9:30 a.m. to 12:30 p.m.

ADDRESSES: The meetings will be held at 1120 20th Street NW., Suite 706 South, Washington, DC 20036.

FOR FURTHER INFORMATION CONTACT: The Designated Federal Officer for the individual committee (see listings below), Administrative Conference of the United States, 1120 20th Street NW., Suite 706 South, Washington, DC 20036; Telephone 202-480-2080.

SUPPLEMENTARY INFORMATION:

Committee on Collaborative Governance

The Committee on Collaborative Governance will meet to discuss a draft report and possible recommendations on agency experience with joint rulemaking, including lessons learned and best practices for collaboration and coordination among regulatory agencies in the rulemaking process. The draft report was prepared by Professor Jody Freeman (Harvard University) and Professor Jim Rossi (Florida State University). The Designated Federal Officer for this committee is David Pritzker. More information can be found in the “About” section of the Conference's Web site, at http://www.acus.gov. Click on “About,” then on “The Committees,” and then on “Committee on Collaborative Governance.”

Committee on Adjudication

The April 23, 2012 meeting of the Committee on Adjudication is a rescheduling of the committee's meeting previously announced for April 16, 2012, from 9:30 a.m. to 12:30 p.m. At the meeting, the Committee on Adjudication will discuss further a draft report on the Immigration Adjudication Project and a draft recommendation based on the consultants' report. The report, prepared by Professor Lenni B. Benson (New York Law School) and Russell Wheeler (Brookings Institution), presents the findings of a study of potential improvements to the procedures for immigration adjudication. Funmi E. Olorunnipa is the Designated Federal Officer for this committee. More information can be found in the “About” section of the Conference's Web site, at http://www.acus.gov. Click on “About,” then on “The Committees,” and then on “Committee on Adjudication.”

Dated: March 9, 2012.
David M. Pritzker,
Deputy General Counsel.

[FR Doc. 2012-6193 Filed 3-14-12; 8:45 am]

BILLING CODE 6110-01-P